DEPARTMENT OF AGRICULTURE

Rural Business-Cooperative Service

Notice Inviting Applications for Recognition as a State Rural Development Council

AGENCY: Rural Business-Cooperative Service (RBS), USDA.

ACTION: Notice inviting applications.

SUMMARY: This Notice invites applications for recognition as a State Rural Development Council (SRDC) pursuant to the Farm Security and Rural Investment Act of 2002 (2002 Farm Bill). SRDCs are members of the National Rural Development Partnership (NRDP), more fully described elsewhere in this Notice. Applicants must meet the eligibility requirements in the 2002 Farm Bill and this Notice, submit an application for recognition, and submit evidence of ability to provide the requisite matching funds if federal funding is provided.

Recognition by the Secretary does not guarantee that a State Rural Development Council will automatically receive funding from the U.S. Department of Agriculture (USDA) or any other Federal agency, but will enable Federal agencies to make grants, gifts, contributions, provide technical assistance, or enter into contracts or cooperative agreements with the SRDC, in addition to making the SRDC automatically a part of the recomprised National Rural Development Partnership.

DATES: Applications must be submitted by 5 p.m. Eastern Time, April 21, 2003. Applications received after that date will be reviewed on a first come basis in order to receive Federal recognition. Applicants are encouraged to apply as soon as possible. Due to delays in the receipt of federal government mail through the U.S. Postal Service, applications should be sent by an express mail service (e.g., UPS, Federal Express).

ADDRESSES: Entities wishing to apply for assistance may download the application requirements delineated in this Notice from the NRDP Web site at: http://www.rurdev.usda.gov/nrdp/nia.html. Applicants may also request application packages from: Tia Trout, United States Department of Agriculture National Rural Development Partnership, MAIL STOP 3205, Room 4225, 1400 Independence Ave., SW., Washington, DC 20250-3205, telephone (202) 720-1534, e-mail tia.trout@usda.gov.

FOR FURTHER INFORMATION CONTACT: Tia Trout, USDA National Rural Development Partnership, MAIL STOP 3205, Room 4225, 1400 Independence Ave., SW., Washington, DC 20250-3205, telephone (202) 690-1534, e-mail tia.trout@usda.gov. Information may also be obtained at the following Web site: http://www.rurdev.usda.gov/nrdp.

SUPPLEMENTARY INFORMATION:

Programs Affected

This program is listed in the Catalog of Federal Domestic Assistance under number 10.353. This program is subject to the provisions of Executive Order 12372, which requires intergovernmental consultation with State and local officials.

Information Collection and Recordkeeping Requirements

In accordance with the Paperwork Reduction Act of 1995 (44 U.S.C. chapter 35), USDA invites comments on the information collection requirement in this notice. These requirements have been granted emergency clearance by the Office of Management and Budget under OMB Control Number 0570-0043.

Comments on this notice must be received by April 21, 2003.

Comments are invited on (a) whether the collection of information is necessary for the proper performance of the functions of the agency, including whether the information will have practical utility; (b) the accuracy of the agency's estimate of burden including the validity of the methodology and assumptions used; (c) ways to enhance the quality, utility and clarity of the information to be collected; and (d) ways to minimize the burden of the collection of information on those who are to respond, including through the use of appropriate automated, electronic, mechanical, or other technological collection techniques or other forms of information technology.

Comments on these information collections should refer to the OMB control number. Organizations and individuals desiring to submit comments on the information collection requirements should direct them to Renita Bolden, Regulations and Paperwork Management Branch, Support Services Division, Rural Development, U.S. Department of Agriculture, STOP 0742, 1400 Independence Ave., SW., Washington, DC 20250-0742. Mail courier service deliveries requiring a street address delivery should be sent to the same attention at 300 E Street, SW., 3rd Floor, Washington, DC 20546.

Title: National Rural Development Partnership.

Type of Request: New collection.

Estimate of Burden: Public reporting burden for this collection of information is estimated to average 6.0 hours per Application.

Respondents: Joint proposals among public bodies, non profit and for-profit entities, including associations, in incorporated form or limited liability companies, tribal governments, and cooperatives.

Estimated Number of Respondents: 50.

Estimated Number of Responses per Respondent: 1.

Estimated Number of Responses: 50.

Estimated Total Annual Burden on Respondents: 300 hours.

Background

The National Rural Development Partnership began in 1990 as a component of the President's Initiative on Rural America. Eight pilot SRDCs were formed in 1990; ten years later, 40 SRDCs were in place.

The 2002 Farm Bill authorizes the continuation of the National Rural Development Partnership, with a slightly modified membership structure. The Farm Bill specifies that membership in the reconstituted National Rural Development Partnership is to consist of a National Rural Development Coordinating Committee (NRDCC) and the SRDCs. The National Rural Development Coordinating Committee will be the subject of a separate appointment process and notice.

The 2002 Farm Bill statutorily recognizes the National Rural Development Partnership and authorizes appropriations specific to it and its members. The statute provides eligibility criteria for recognition as a State Rural Development Council. It is contemplated that the NRDP and its components (SRDCs and the NRDCC) will receive funding from a variety of sources: Federal, state, and private. USDA is responsible for recognizing, and entering into a recognition agreement with, each selected SRDC in accordance with statutory criteria.

Each SRDC that previously participated in the National Rural Development Partnership, and is interested in continuing to be recognized as an SRDC, must apply and be recognized pursuant to this Notice. New applicants are also invited to apply. Potential applicants within a state are encouraged to work together to develop a single application. Only one SRDC per state will be recognized.

A more extensive history can be found at the following Web site: http://www.rurdev.usda.gov/nrdp/about.

Definitions

Funding Entity refers to the responsible legal entity which is to receive, hold and disburse funds received from the National Rural Development Partnership for a SRDC.

National Rural Development Partnership (NRDP) refers jointly to recognized State Rural Development Councils and the National Rural Development Coordinating Committee.

National Rural Development Coordinating Committee (NRDCC) refers to a group to be composed of entities and representatives to be approved by the Secretary pursuant to a separate notice further implementing section 6021 of the 2002 Farm Bill.

Rural Area means all the territory of a State that is not within the boundaries of any standard metropolitan statistical area, and all territory within any standard metropolitan statistical area within a census tract having a population density of less than 20 persons per square mile, as determined by the Secretary according to the most recent census of the United States as of any date.

State includes each of the several States, the Commonwealth of Puerto Rico, the Virgin Islands of the United States, Guam, American Samoa, the Commonwealth of the Northern Mariana Islands, and, to the extent the Secretary determines it to be feasible and appropriate, the Freely Associated States and the Federated States of Micronesia.

State Rural Development Council (SRDC) refers to an entity recognized as such by the Secretary in an agreement with USDA that confirms the Council meets the eligibility criteria in the 2002 Farm Bill.

2002 Farm Bill refers to Farm Security and Rural Investment Act, Public Law 107-171, enacted on May 13, 2002. Section 6021 of this Act authorizes the Secretary to continue the National Rural Development Partnership and authorizes appropriations for this program.

Eligibility Requirements

As specified in the 2002 Farm Bill, a State Rural Development Council shall:

1. Be composed of representatives of Federal, State, local and tribal governments, nonprofit organizations, regional organizations, the private sector, and other entities committed to rural advancement;

2. Operate with a nonpartisan and nondiscriminatory membership that is broad and representative of the economic, social, and political diversity of the state;

3. Have a structure such that the membership is responsible for the governance and operations of the SRDC; and

4. Provide matching funds, or in-kind goods or services, to support the activities of the SRDC, as more fully described below.

Recognition Agreement

SRDCs will enter into a Recognition Agreement with USDA. The Recognition Agreement will conform in all material respects to the form of agreement provided in Appendix A to this Notice, and will provide for a specific term of recognition. It will require compliance with any regulations as may be promulgated by USDA with respect to the NRDP that are not in conflict with this Notice or any enforceable Recognition Agreement.

Duties post-Recognition

As specified in the 2002 Farm Bill, upon entering into a recognition agreement with USDA, the SRDC must:

1. Facilitate collaboration among Federal, State, local, and tribal governments and the private and nonprofit sectors in the planning and implementation of programs and policies that have an impact on rural areas of the State;

2. Monitor, report, and comment on policies and programs that address, or fail to address, the needs of the rural areas of the State;

3. In conjunction with the NRDCC, facilitate the development of strategies to reduce or eliminate conflicting or duplicative administrative or regulatory requirements of Federal, State, local, and tribal governments;

4. Provide to the NRDCC an annual plan with goals and performance measures; and

5. Submit to the NRDCC an annual report on the progress of the SRDC in meeting the goals and measures established in the annual plan.

Further, to assure continuing Farm Bill compliance, changes made to the SRDC's bylaws, organizational structure, rules of governance, or any other modifications that change the SRDC's structure or rules of operation must be provided to USDA immediately.

Each federally-funded SRDC must, as required by the NRDCC, submit an annual report to the NRDCC on the use of the funds, including a description of strategic plans, goals, performance measures and outcomes for the SRDC.

Contents of Application Package

A completed application must include the following:

(1) A brief description of the State Rural Development Council, including the legal structure, membership categories (e.g., corporate, individual, government agency), and the responsible contact person.

(2) Organizational documents for the SRDC and, if different from the SRDC, the proposed Funding Entity. If the SRDC has 501(c)(3) not for profit corporation status, for example, the organizational documents would consist of the corporate charter and any other document that addresses the legal relationship among the members. If the SRDC has a legal structure other than a corporate form, the organizational documents must reflect how the SRDC was established and the legal relationship among the members.

(3) Rules of governance for the SRDC. The rules of governance must provide evidence that the membership is totally responsible for the governance and operations of the SRDC. If the SRDC has 501(c)(3) not for profit corporation status, for example, a copy of the bylaws must be provided. The RBS reserves the right to grant provisional recognition until June 30, 2004 to an SRDC applicant that must consult with other officials on limited governance matters.

(4) A representative list of members, which must identify a minimum of one, and a maximum of five, member(s) of the Council from each of the following six or (if applicable) seven institutional categories: (a) Federal government, (b) state government, (c) local government, (d) regional organizations, (e) not for profit corporations, (f) private for profit corporations, and (if applicable) (g) federally recognized tribal government. It is acceptable that some members on this representative list come from institutions committed to rural advancement that are not included in the aforementioned categories; such representatives should be placed in category (h) other entities committed to rural advancement (this could include colleges, universities, foundations, etc.). Provide the following information for each member person listed: Name, Institutional affiliation, Institutional category, Contact information (mailing address, telephone and fax numbers, and email address).

(5) A copy of the Council's written policy indicating that it operates in a nonpartisan and nondiscriminatory manner, or, in the alternative, a statement, signed by the Council Chair, indicating that the Council operates in a nonpartisan and nondiscriminatory manner.

(6) (a) A summary description of the key economic, social, and political regions of the rural areas of the state and (b) a summary description of how the Council represents the economic, social and political make-up of the state's rural areas (e.g., cross-reference the members presented in item (4) above with the regions presented here). This section (6) of the application should not exceed two pages.

(7) Evidence that the SRDC is likely to have sufficient matching funds or in-kind goods or services for the period July 1, 2003 through May 13, 2007 to provide at least 33% in-kind or monetary match for any federal funds that might be provided under the provisions of the 2002 Farm Bill to cover SRDC activities during that period. Such evidence shall include letters of intent (or similar documents) from each organization that will provide matching funds or in-kind goods or services. For the period July 1, 2003 through June 30, 2004, these letters shall indicate intent to provide at least $25,000 (in total, across all letters) in matching funds or in-kind goods or services. In addition, these letters shall indicate intent to provide additional matching funds or in-kind goods and services for the period July 1, 2004 through May 13, 2007.

Evaluation Considerations

The application materials will be reviewed to confirm that the basic eligibility criteria set forth in the 2002 Farm Bill are met. USDA may seek to independently verify that the representations made in the application are correct.

Application Selection Process

All applicants are encouraged to apply in a timely manner. Applications will be reviewed beginning April 21, 2003. An application may be submitted after this date subject to the proviso that it will not be considered if an SRDC for that State has already been granted recognition and remains in good standing under its Recognition Agreement. In the event that more than one application is received for a state, USDA will permit the applicants to work together to develop a single application that may be resubmitted, such that each state is represented by only one SRDC. In the event multiple applicants that are acceptable from one state do not wish to work together to develop a single application, USDA will choose one of those applicants to be the recognized SRDC. In this case, RBS will use the following criterion to choose the SRDC: Which applicant has the largest number of institutions represented as members (as reported in Item (4) above)? If two or more acceptable applicants are tied on that score, the tie-breaker will be: Which applicant has the largest match (as reported in Item (7) above)?

What and Where to Submit

A complete, original application may be electronically sent as an e-mail attachment to tia.trout@usda.gov. If applications are submitted electronically, a signature page must be submitted in hard copy or via fax. Alternatively, an original application package plus two paper copies may be submitted in hard copy to: Tia Trout, USDA National Rural Development Partnership, MAIL STOP 3205, Room 4225, 1400 Independence Ave., SW., Washington, DC 20250-3205.

Dated: February 3, 2003.
John Rosso,
Administrator, Rural Business-Cooperative Service.

Appendix A

Form of Recognition Agreement

Recognition Agreement Between [SRDC] and The United States Department of Agriculture (USDA)

Parties

SRDC Chair or Co-Chairs

SRDC Executive Director

USDA

Administrator—Rural Business-Cooperative Service

Purpose

The purpose of this Agreement is to confer recognition upon [SRDC] as the State Rural Development Council for the state of ___a term ending May 13, 2007 unless earlier terminated for failure to maintain the requirements for ongoing eligibility pursuant to the Farm Security and Rural Investment Act of 2002 (the 2002 Farm Bill).

Background

The National Rural Development Partnership authorized by section 6021 of the 2002 Farm Bill is composed of a National Rural Development Coordinating Committee (the Coordinating Committee) and State Rural Development Councils. The purposes of the Partnership are to empower and build the capacity of States and rural communities to design flexible and innovative responses to their own special rural development needs, with local determinations of progress and selection of projects and activities. Accordingly, the legislation requires that a State Rural Development Council (1) be composed of representatives of Federal, State, local, and tribal governments, nonprofit organizations, regional organizations, the private sector, and other entities committed to rural advancement, (2) have a nonpartisan and nondiscriminatory membership that is broad and representative of the economic, social, and political diversity of the State, and (3) that the membership shall be responsible for the governance and operations of the State Rural Development Council.

Agreement

The [SRDC] hereby represents the following:

1. The membership of the SRDC meets and will continue to meet on an ongoing basis the eligibility requirements for recognition as a member of the NRDP set forth in the 2002 Farm Bill.

2. The entity which shall undertake fiscal responsibilities on behalf of the SRDC for purposes of any USDA funding is [name of Funding Entity/Address]. The officer who is authorized to enter into agreements on behalf of the Funding Entity is [Name, Title].

3. The person who is authorized to represent the SRDC in meetings of the NRDP and enter into contracts and receive notices on behalf of the SRDC is: [Name, Title, Address]

The [SRDC] hereby undertakes to perform the following duties:

1. Facilitate collaboration among Federal, State, local, and tribal governments and the private and nonprofit sectors in the planning and implementation of programs and policies that have an impact on rural areas of the State;

2. Monitor, report, and comment on policies and programs that address, or fail to address, the needs of the rural areas of the State; and

3. As part of the NRDP, in conjunction with the Coordinating Committee, facilitate the development of strategies to identify and reduce or eliminate conflicting or duplicative administrative or regulatory requirements of Federal, State, local, and tribal governments.

Furthermore, the [SRDC] agrees to:

(a) Provide to the Coordinating Committee an annual plan with goals and performance measures; and

(b) Submit to the Coordinating Committee an annual report on the progress of the [SRDC] in meeting the goals and measures.

The [SRDC] hereby agrees to provide matching funds or in-kind goods or services, as required by statute, to support the activities of the undersigned, in an amount that is at least 33 percent of the amount of Federal funds received from a Federal agency, except where the Federal funds in question are (a) to support one or more specific programs or project activities or (b) to reimburse the SRDC for services provided to the funding Federal agency.

The [SRDC] hereby agrees to provide evidence on an on-going basis that the SRDC is in compliance with this Agreement. For example, as and when the Council modifies its bylaws, organizational structure, rules of governance, and/or makes any other modifications that change the SRDC's structure or rules of operations, such changes must be provided to USDA immediately.

Furthermore, the [SRDC] understands that if it applies to USDA-RD for federal funding for its core operations, it must comply with all federal requirements regarding financial management, good standing, criminal convictions, debarment, civil rights and any other applicable laws.

Recognition

The USDA hereby recognizes [name of SRDC] as a State Rural Development Council and member of the National Rural Development Partnership. All correspondence shall be directed to USDA, care of [David Sears, National Partnership Office, email, telephone].

Programming, Budgeting, Funding, and Reimbursement Arrangement

This Recognition Agreement does not commit USDA or the federal government to provide any financial assistance.

Authority

The USDA authority for entering into this Recognition Agreement is Section 6021 of Public Law 107-171 (May 13, 2002). This Recognition Agreement is subject to Section 6021 of the 2002 Farm Bill, the Notice Inviting Applications for Recognition, future SRDC regulations not otherwise inconsistent with this Recognition Agreement and all other applicable laws.

Approvals

The signatories hereby certify that they have the authority to enter into this Recognition Agreement.

Revocation

Upon written notice from USDA of a failure to perform or other default under this Agreement, the SRDC has 90 days from the date of the USDA written notice to cure the failure to perform or the default. USDA may terminate this agreement, thereby revoking recognition, upon written notice to the SRDC for failure of the SRDC to cure a failure to perform or otherwise cure a default under this Recognition Agreement.

The SRDC may terminate this Recognition Agreement upon 90 days written notice to USDA.

Effective Date

This Recognition Agreement will become effective upon the signature of all parties and shall remain in effect until the earlier of May 13, 2007 or termination by either party. Its provisions can be amended or supplemented in writing as may be agreed upon.

Administrator

Rural Business-Cooperative Service

Administrator

[Date]

[ ] Chair

SRDC

[Date]

[ ] Executive Director

SRDC

[Date]

[FR Doc. 03-4040 Filed 2-19-03; 8:45 am]

BILLING CODE 3410-XY-P